DEPARTMENT OF COMMERCE

International Trade Administration

[A-588-845]

Stainless Steel Sheet and Strip in Coils From Japan: Final Results of Antidumping Duty Changed Circumstances Review

AGENCY: Enforcement and Compliance, formerly Import Administration, International Trade Administration, Department of Commerce.

SUMMARY: The Department of Commerce (the Department) finds that, in the context of the antidumping duty order on stainless steel sheet and strip in coils (SSSSC) from Japan, Hitachi Metals Ltd. (Hitachi Metals) is the successor-in-interest to the merger of Hitachi Metals and Hitachi Cable Ltd. (Hitachi Cable) for purposes of determining antidumping duty cash deposits and liabilities.

DATES: Effective Date: February 24, 2014.

FOR FURTHER INFORMATION CONTACT: Terre Keaton Stefanova or Rebecca Trainor, AD/CVD Operations, Office II, Enforcement and Compliance, International Trade Administration, U.S. Department of Commerce, 14th Street and Constitution Avenue NW, Washington, DC 20230; telephone (202) 482-1280 or (202) 482-4007, respectively.

SUPPLEMENTARY INFORMATION:

Background

On November 13, 2013, Hitachi Metals requested that the Department conduct an expedited changed circumstances review under 19 CFR 351.221(c)(3)(ii) to confirm that it is the successor-in-interest to Hitachi Cable for purposes of determining antidumping duty cash deposits and liabilities.

On December 31, 2013, the Department preliminarily determined that Hitachi Metals is the successor-in-interest to the merger of Hitachi Metals and Hitachi Cable.¹ In the Initiation and Preliminary Results, we provided all interested parties with an opportunity to comment or request a public hearing regarding this finding. We received no comments or requests for a public hearing from interested parties within the time period set forth in the Initiation and Preliminary Results.

¹ See Stainless Steel Sheet and Strip in Coils from Japan: Initiation of Expedited Changed Circumstances Review, and Preliminary Results of Changed Circumstances Review, 78 FR 79667 (December 31, 2013) (Initiation and Preliminary Results).

Scope of the Order

The products covered by the order are certain stainless steel sheet and strips in coils. The merchandise subject to the order is currently classified under the following Harmonized Tariff Schedule of the United States (HTSUS) subheadings: 7219.13.00.31, 7219.13.00.51, 7219.13.00.71, 7219.13.00.81, 7219.14.00.30, 7219.14.00.65, 7219.14.00.90, 7219.32.00.05, 7219.32.00.20, 7219.32.00.25, 7219.32.00.35, 7219.32.00.36, 7219.32.00.38, 7219.32.00.42, 7219.32.00.44, 7219.33.00.05, 7219.33.00.20, 7219.33.00.25, 7219.33.00.35, 7219.33.00.36, 7219.33.00.38, 7219.33.00.42, 7219.33.00.44, 7219.34.00.05, 7219.34.00.20, 7219.34.00.25, 7219.34.00.30, 7219.34.00.35, 7219.35.00.05, 7219.35.00.15, 7219.35.00.30, 7219.35.00.35, 7219.90.00.10, 7219.90.00.20, 7219.90.00.25, 7219.90.00.60, 7219.90.00.80, 7220.12.10.00, 7220.12.50.00, 7220.20.10.10, 7220.20.10.15, 7220.20.10.60, 7220.20.10.80, 7220.20.60.05, 7220.20.60.10, 7220.20.60.15, 7220.20.60.60, 7220.20.60.80, 7220.20.70.05, 7220.20.70.10, 7220.20.70.15, 7220.20.70.60, 7220.20.70.80, 7220.20.80.00, 7220.20.90.30, 7220.20.90.60, 7220.90.00.10, 7220.90.00.15, 7220.90.00.60, and 7220.90.00.80. Although the HTSUS numbers are provided for convenience and customs purposes, the written product description, available in the Order, remains dispositive.²

² For a complete description of the scope, see Notice of Amended Final Determination of Sales at Less Than Fair Value and Antidumping Duty Order; Stainless Steel Sheet and Strip in Coils from Japan, 64 FR 40565 (July 27, 1999). See also Initiation and Preliminary Results.

Final Results of Changed Circumstances Review

Because no parties submitted comments opposing the Department's preliminary results, and because there is no other information or evidence on the record that calls into question the preliminary results, for the reasons outlined in the Initiation and Preliminary Results, the Department determines that Hitachi Metals is the successor-in-interest to the merger of Hitachi Metals and Hitachi Cable for the purpose of determining antidumping duty liability.³ Specifically, we find that the merger of these two companies resulted in no significant changes to management, production facilities, supplier relationships, and customers with respect to the production and sale of the subject merchandise. Thus, Hitachi Metals operates as the same business entity as Hitachi Cable with respect to the subject merchandise.⁴ As a result of this determination, we find that Hitachi Metals should receive the cash deposit rate previously assigned to Hitachi Cable in the most recently completed review of the antidumping duty order on SSSSC from Japan. Consequently, the Department will instruct U.S. Customs and Border Protection to suspend liquidation of all shipments of subject merchandise produced and/or exported by Hitachi Metals and entered, or withdrawn from warehouse, for consumption on or after the publication date of this notice in the Federal Register at 0.00 percent, which is the urrent cash deposit rate for Hitachi Cable.⁵ This cash deposit requirement shall remain in effect until further notice.

³ See Initiation and Preliminary Results, 78 FR at 79668-70.

⁴ Id., at 79669.

⁵ See Stainless Steel Sheet and Strip in Coils from Japan: Final Results of Antidumping Duty Administrative Review, 75 FR 6631, 6633 (February 10, 2010).

Notification

This notice serves as a reminder to parties subject to administrative protective order (APO) of their responsibility concerning the disposition of proprietary information disclosed under APO in accordance with 19 CFR 351.306. Timely written notification of the return/destruction of APO materials or conversion to judicial protective order is hereby requested. Failure to comply with the regulations and terms of an APO is a sanctionable violation.

We are issuing this determination and publishing these final results and notice in accordance with sections 751(b)(1) and 777(i)(1) and (2) of the Tariff Act of 1930, as amended, and 19 CFR 351.216 and 351.221(c)(3).

Dated: February 12, 2014.
Paul Piquado,
Assistant Secretary for Enforcement and Compliance.

[FR Doc. 2014-03893 Filed 2-21-14; 8:45 am]

BILLING CODE 3510-DS-P